DEPARTMENT OF COMMERCE

International Trade Administration

[A-533-843]

Certain Lined Paper Products from India: Notice of Final Results of the First Antidumping Duty Administrative Review

AGENCY: Import Administration, International Trade Administration, Department of Commerce.

SUMMARY: On October 7, 2008, the Department of Commerce (the Department) published the preliminary results of the antidumping duty administrative review for certain lined paper products (CLPP) from the India.¹ This review covers two mandatory respondents, Kejriwal Exports and Kejriwal Paper Limited (Kejriwal), and Ria ImpEx Pvt. Ltd. (Ria), and 17 other manufacturers and exporters of the subject merchandise (collectively, respondents).² The period of review (POR) is April 17, 2006, through August 31, 2007.

¹ See Certain Lined Paper Products From India: Preliminary Results of the First Antidumping Duty Administrative Review, 73 FR 58548 (October 7, 2008) (Preliminary Results).

² See Initiation of Antidumping and Countervailing Duty Administrative Reviews, 72 FR 61621 (October 31, 2007). The respondents include: Blue Bird India Ltd.; Creative Divya; Exel India Pvt. Ltd.; FFI International; Global Art India Inc.; Kejriwal Exports and Kejriwal Paper Limited; M/S Super ImpEx.; Magic International; Marigold ExIm Pvt. Ltd.; Marisa International; Navneet Publications (India) Ltd. (Navneet); Pioneer Stationery Pvt. Ltd.; Rajvansh International; Ria ImpEx Pvt. Ltd. (Ria); Riddhi Enterprises; SAB International; TKS Overseas; Unlimited Accessories Worldwide; and V. Joshi Co.

Based on our analysis of the comments received, we have made changes to Kejriwal's margin. For these final results, we find that Kejriwal sold subject merchandise at prices below normal value (NV) during the POR. Because it is above de minimis, we are applying the calculated weighted-average margin for Kejriwal from this review to those companies that were covered by this review but were not selected for individual examination (non-selected respondents). Therefore, the final results differ from the Preliminary Results with respect to Kejriwal and the non-selected respondents. However, we continue to apply an adverse facts available rate of 23.17 percent to Ria.

EFFECTIVE DATE: April 14, 2009.

FOR FURTHER INFORMATION CONTACT: Cindy Lai Robinson or George McMahon, AD/CVD Operations, Office 3, Import Administration, International Trade Administration, U.S. Department of Commerce, 14th Street and Constitution Avenue, NW, Washington, DC 20230; telephone: (202) 482-3797 or (202) 482-1167, respectively.

SUPPLEMENTARY INFORMATION:

Background

On October 7, 2008, the Department published the Preliminary Results. On February 2, 2009, the Department extended the time limits for the final results of this review until no later than April 6, 2009. See Certain Lined Paper Products from India: Extension of Time Limits for Final of Antidumping Duty Administrative Review, 74 FR 5817 (February 2, 2009).

We invited parties to comment on our Preliminary Results. On November 14, 2008, the Association of American School Paper Suppliers and its individual members (the petitioner) and Kejriwal submitted their case briefs. On November 25, 2008, the petitioner, Kejriwal, and Navneet submitted their rebuttal briefs.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for loose leaf filler paper) including but not limited to such products as single- and multi-subject notebooks, composition books, wireless notebooks, loose leaf or glued filler paper, graph paper, and laboratory notebooks, and with the smaller dimension of the paper measuring 6 inches to 15 inches (inclusive) and the larger dimension of the paper measuring 8-3/4 inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated , included with, or attached to the product, cover and/or backing thereto.

Specifically excluded from the scope of this order are:

• unlined copy machine paper;

• writing pads with a backing (including but not limited to products commonly known as “tablets,” “note pads,” “legal pads,” and “quadrille pads”), provided that they do not have a front cover (whether permanent or removable). This exclusion does not apply to such writing pads if they consist of hole-punched or drilled filler paper;

• three-ring or multiple-ring binders, or notebook organizers incorporating such a ring binder provided that they do not include subject paper;

• index cards;

• printed books and other books that are case bound through the inclusion of binders board, a spine strip, and cover wrap;

• newspapers;

• pictures and photographs;

• desk and wall calendars and organizers (including but not limited to such products generally known as “office planners,” “time books,” and “appointment books”);

• telephone logs;

• address books;

• columnar pads & tablets, with or without covers, primarily suited for the recording of written numerical business data;

• lined business or office forms, including but not limited to: pre-printed business forms, lined invoice pads and paper, mailing and address labels, manifests, and shipping log books;

• lined continuous computer paper;

• boxed or packaged writing stationary (including but not limited to products commonly known as “fine business paper,” “parchment paper,” and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• Fly™ lined paper products: A notebook, notebook organizer, loose or glued note paper, with papers that are printed with infrared reflective inks and readable only by a Fly™ pen-top computer. The product must bear the valid trademark Fly™ (products found to be bearing an invalidly licensed or used trademark are not excluded from the scope).

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1” wide elastic fabric band. This band is located 2-3/8” from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope).

Merchandise subject to this order is typically imported under headings 4820.10.2050, 4810.22.5044, 4811.90.9090, 4820.10.2010, 4820.10.2020 of the Harmonized Tariff Schedule of the United States (HTSUS). The HTSUS headings are provided for convenience and customs purposes; however, the written description of the scope of the order is dispositive.

Analysis of Comments Received

All issues raised in the case and rebuttal briefs by parties in this review are addressed in the “Issues and Decision Memorandum” from John M. Andersen, Acting Deputy Assistant Secretary for Antidumping and Countervailing Duty Operations, to Ronald K. Lorentzen, Acting Assistant Secretary for Import Administration, dated April 6, 2009, (Issues and Decisions Memorandum) which is adopted by this notice. A list of the issues which parties have raised, and to which we have responded in the Issues and Decision Memorandum, is attached to this notice as an Appendix. Parties can find a complete discussion of the issues raised in this review and the corresponding recommendations in this public memorandum, which is on file in the Central Records Unit (CRU), room 1117 of the main Commerce Building. In addition, a complete version of the Issues and Decision Memorandum can be accessed directly on the world wide web at http://ia.ita.doc.gov/frn/index.html. The paper copy and electronic version of the Issues and Decision Memorandum are identical in content.

Changes Since the Preliminary Determination

Based on our analysis of the comments received, we have made changes to Kejriwal's margin. Specifically, we recalculated Kejriwal's general and administrative (G&A) expenses ratio. See Memorandum to Neal M. Halper from Robert B. Greger, Re: Constructed Value Calculation Adjustments for the Final Results - Kejriwal Paper Limited, dated April 6, 2009.

Kejriwal Paper Limited (Kejriwal). As a result of this change, the calculated margin for Kejriwal is no longer a de minimis rate, and is assigned to the non-selected companies covered in this review.

Adverse Facts Available

Section 776(a) of the Tariff Act of 1930, as amended (the Act), provides that the Department will apply “facts otherwise available” if, inter alia, necessary information is not available on the record or an interested party: 1) withholds information that has been requested by the Department; 2) fails to provide such information within the deadlines established, or in the form or manner requested by the Department, subject to subsections (c)(1) and (e) of section 782 of the Act; 3) significantly impedes a proceeding; or 4) provides such information, but the information cannot be verified.

As discussed in the Preliminary Results, Ria is one of the mandatory respondents for this review, but Ria did not submit any questionnaire responses to the Department, nor did it request any further extension after it improperly filed an extension request. By failing to respond to the Department's requests, Ria withheld requested information and significantly impeded the proceeding. Therefore, pursuant to sections 776(a)(2)(A) and (C) of the Act, the Department finds that the use of total facts available for Ria is appropriate.

According to section 776(b) of the Act, if the Department finds that an interested party fails to cooperate by not acting to the best of its ability to comply with requests for information, the Department may use an inference that is adverse to the interests of that party in selecting from the facts otherwise available. See also Notice of Final Results of Antidumping Duty Administrative Review: Stainless Steel Bar from India, 70 FR 54023, 54025-26 (September 13, 2005); and Notice of Final Determination of Sales at Less Than Fair Value and Final Negative Critical Circumstances: Carbon and Certain Alloy Steel Wire Rod from Brazil, 67 FR 55792, 55794-96 (August 30, 2002). Adverse inferences are appropriate “to ensure that the party does not obtain a more favorable result by failing to cooperate than if it had cooperated fully.” See Statement of Administrative Action accompanying the Uruguay Round Agreements Act, H.R. Rep. No. 103-316, Vol. 1, at 870 (1994) (SAA), reprinted in 1994 U.S.C.C.A.N. 4040, 4198-99. Furthermore, “affirmative evidence of bad faith on the part of a respondent is not required before the Department may make an adverse inference.” See Antidumping Duties; Countervailing Duties; Final Rule, 62 FR 27296, 27340 (May 19, 1997); see also Nippon Steel Corp. v. United States, 337 F.3d 1373, 1382-83 (Fed. Cir. 2003) (Nippon). In this case, despite an improperly filed extension request, the Department granted Ria an opportunity to refile the extension request and a two-week extension to respond to the Department's questionnaire. Ria never responded, refiled, or made an additional request for a further extension. The Department finds that Ria did not act to the best of its ability in this proceeding, within the meaning of section 776(b) of the Act, because it could have responded to the Department's requests for information, but failed to do so. Therefore, an adverse inference is warranted in selecting from the facts otherwise available with respect to Ria. See Nippon, 337 F.3d at 1382-83.

Section 776(b) of the Act provides that the Department may use as AFA information derived from: 1) the petition; 2) the final determination in the investigation; 3) any previous review; or 4) any other information placed on the record.

The Department's practice, when selecting an AFA rate from among the possible sources of information, has been to ensure that the margin is sufficiently adverse “as to effectuate the statutory purposes of the adverse facts available rule to induce respondents to provide the Department with complete and accurate information in a timely manner.” See, e.g., Certain Steel Concrete Reinforcing Bars from Turkey; Final Results and Rescission of Antidumping Duty Administrative Review in Part, 71 FR 65082, 65084 (November 7, 2006).

In order to ensure that the margin is sufficiently adverse so as to induce cooperation, the Department has assigned a rate of 23.17 percent, which is the highest rate on the record of the proceeding which can be corroborated. See Final Determination of Sales at Less Than Fair Value, and Negative Determination of Critical Circumstances: Certain Lined Paper Products from India (India Lined Paper Investigation Final), 71 FR 45012 (August 8, 2006). As stated in the India Lined Paper Investigation Final, this rate was assigned as AFA to two companies, which failed to cooperate to the best of their ability, and is based on Kejriwal's data submitted in the investigation. Id. The Department finds that this rate is sufficiently high as to effectuate the purpose of the facts available rule (i.e., we find that this rate is high enough to prevent parties from benefitting from non-cooperation in accordance with section 776(b) of the Act).

Corroboration of Information

Section 776(c) of the Act requires the Department to corroborate, to the extent practicable, secondary information used as facts available. Secondary information is defined as “information derived from the petition that gave rise to the investigation or review, the final determination concerning the subject merchandise, or any previous review under section 751 concerning the subject merchandise.” See 19 CFR 351.308(c) and (d); see also the SAA at 870. The SAA clarifies that “corroborate” means that the Department will satisfy itself that the secondary information to be used has probative value. See the SAA at 870. The SAA also states that independent sources used to corroborate such evidence may include, for example, published price lists, official import statistics and customs data, and information obtained from interested parties during the particular investigation. Id. To corroborate secondary information, the Department will, to the extent practicable, examine the reliability and relevance of the information used.

To corroborate secondary information, to the extent practicable, the Department normally examines the reliability and relevance of the information to be used. Unlike other types of information such as input costs or selling expenses, however, there are no independent sources for calculated dumping margins. The only source for margins is administrative determinations. Thus, with respect to an administrative review, if the Department chooses as facts available a calculated dumping margin from a prior segment of the proceeding, it is not necessary to question the reliability of the margin for that time period. See Carbazole Violet Pigment 23 from India: Preliminary Results of Antidumping Duty Administrative Review, 73 FR 52012 (September 8, 2008) (Carbazole Violet Pigment 23 from India); see also Antifriction Bearings and Parts Thereof from France, et al.: Preliminary Results of Antidumping Duty Administrative Reviews, Partial Rescission of Administrative Reviews, Notice of Intent to Rescind Administrative Reviews, and Notice of Intent to Revoke Order in Part, 69 FR 5949, 5953 (February 9, 2004), unchanged in Antifriction Bearings and Parts Thereof from France, et al.: Final Results of Antidumping Duty Administrative Reviews, Rescission of Administrative Reviews in Part, and Determination To Revoke Order in Part, 69 FR 55574, 55576-77 (September 15, 2004).

With respect to the relevance aspect of corroboration, however, the Department will consider information reasonably at its disposal to determine whether a margin continues to have relevance. Where circumstances indicate that the selected margin is not appropriate as AFA, the Department will disregard the margin and determine an appropriate margin. For example, in Fresh Cut Flowers from Mexico; Final Results of Antidumping Duty Administrative Review, 61 FR 6812, 6814 (February 22, 1996), the Department disregarded the highest margin in that case as adverse best information available (the predecessor to facts available) because the margin was based on another company's uncharacteristic business expense resulting in an unusually high margin. Similarly, the Department does not apply a margin that has been discredited or judicially invalidated. See D & L Supply Co. v. United States, 113 F.3d 1220, 1221 (CAFC 1997).

None of these unusual circumstances is present here. The Department considers the dumping margin of 23.17 percent relevant for use as AFA for this review because this margin is based on information from the investigation and is within the range of transaction-specific margins calculated for a mandatory respondent in the original investigation.³ Moreover, there is no information on the record of this review that demonstrates that 23.17 percent is not an appropriate AFA rate for Ria. The Department finds that use of the rate of 23.17 percent as an AFA rate is sufficiently high to ensure that Ria does not benefit from failing to cooperate in our review by refusing to respond to our questionnaire. See Certain Cut-to-Length Carbon-Quality Steel Plate Products from the Republic of Korea: Final Results of Antidumping Duty Administrative Review and Rescission of Administrative Review in Part, 73 FR 15132, 15133 (March 21, 2008); see also Carbazole Violet Pigment 23 from India.

³ The dumping margin of 23.17 percent is the AFA rate for Navneet in the original investigation, which was based on a calculated rate for Kejriwal. See the Memorandum to File through James Terpstra, Program Manager, from Cindy Lai Robinson, Case Analyst, entitled “Analysis Memorandum for Kejriwal Paper, Re: Preliminary Results of Antidumping Duty Administrative Review of Certain Lined Paper Products from India,” dated September 29, 2008.

Final Results of Review:

We determine that the following weighted-average margins exist:

Manufacturer/Exporter | Weighted Average Margin (percent)
Kejriwal Exports and Kejriwal Paper Limited | 1.22
Ria ImpEx Pvt. Ltd. | 23.17

Review-Specific Average Rate Applicable to the Non-Selected Companies Subject to this Review:⁴

⁴ For the reasons discussed above, this rate is based on the average of the margins, other than those which were zero, de minimis, or based on total facts available, calculated during the review.

Blue Bird India Ltd. | 1.22
Creative Divya | 1.22
Exel India Pvt. Ltd. | 1.22
FFI International | 1.22
Global Art India Inc. | 1.22
M/S Super ImpEx | 1.22
Magic International | 1.22
Marigold ExIm Pvt. Ltd. | 1.22
Marisa International | 1.22
Navneet Publications (India) Ltd. | 1.22
Pioneer Stationery Pvt. Ltd. | 1.22
Rajvansh International | 1.22
Riddhi Enterprises | 1.22
SAB International | 1.22
TKS Overseas | 1.22
Unlimited Accessories Worldwide | 1.22
V. Joshi Co. | 1.22

Assessment

The Department will determine, and U.S. Customs and Border Protection (CBP) shall assess, antidumping duties on all appropriate entries, pursuant to 19 CFR 351.212(b). The Department calculated importer-specific duty assessment rates on the basis of the ratio of the total antidumping duties calculated for the examined sales to the total entered value of the examined sales for that importer. For all other companies⁵ subject to this review which were not selected for individual examination, we calculated an assessment rate based on the cash deposit rate calculated for Kejriwal in this review.

⁵ As stated above, Ria will receive an AFA rate of 23.17 percent.

The Department intends to issue appropriate assessment instructions directly to CBP 15 days after publication of these final results of review. The Department clarified its “automatic assessment'” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the final results of this administrative review for all shipments of certain lined paper products from India entered, or withdrawn from warehouse, for consumption on or after the publication date of these final results, as provided by section 751(a) of the Act: (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 3.91 percent, the all-others rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: April 6, 2009.
Ronald K. Lorentzen,
Acting Assistant Secretary for Import Administration.

APPENDIX I

List of Comments in the Accompanying Issues and Decision Memorandum

Comment 1: Appropriate Rate for Non-Selected Respondents

Comment 2: Whether to Assign a Higher Adverse Facts Available (AFA) Rate to Ria

Comment 3: General and Administrative Expense Ratio

Comment 4: Financial Expense Ratio

Comment 5: Capitalized Expenses

[FR Doc. E9-8495 Filed 4-13-09; 8:45 am]

BILLING CODE 3510-DS-S